FEDERAL TRADE COMMISSION

Sunshine Act Meeting

AGENCY: Federal Trade Commission.

TIME AND DATE: 10 a.m., Thursday, December 9, 2004.

PLACE: Federal Trade Commission Building, Room 532, 600 Pennsylvania Avenue, NW., Washington, DC 20580.

STATUS: Part of this meeting will be open to the public. The rest of the meeting will be closed to the public.

MATTERS TO BE CONSIDERED: Portion Open to Public: (1) Oral Argument in the matter of Rambus Incorporated, Docket 9302.

Portion Closed to the Public: (2) Executive Session to follow Oral Argument in Rambus Incorporated, Docket 9302.

CONTACT PERSON FOR MORE INFORMATION: Mitch Katz.

Office of Public Affairs: (202) 326-2180.

Recorded Message: (202) 326-2711.

Donald S. Clark,
Secretary.

[FR Doc. 04-20403 Filed 9-3-04; 12:10 pm]

BILLING CODE 6750-01-M